NATIONAL SCIENCE FOUNDATION

Agency Information Collection Activities: Comment Request

AGENCY: National Science Foundation.

ACTION: Submission for OMB review; comment request.

SUMMARY: Under the Paperwork Reduction Act of 1995, and as part of its continuing effort to reduce paperwork and respondent burden, the National Science Foundation (NSF) is inviting the general public and other Federal agencies to comment on this proposed reinstated information collection. NSF is forwarding the proposed submission to the Office of Management and Budget (OMB) for clearance simultaneously with the publication of this second notice. The full submission may be found at http://www.reginfo.gov/public/do/PRAMain.

DATES: Written comments on this notice must be received by August 21, 2017, to be assured consideration. Comments received after that date will be considered to the extent practicable. Send comments to address below.

FOR FURTHER INFORMATION CONTACT: Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: This is the second notice for public comment; the first was published in the Federal Register at 81 FR 35805 and no comments were received. Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

Title of Collection: 2017 Early Career Doctorates Survey.

OMB Approval Number: 3145-0235.

Type of Request: Intent to seek approval to reinstate an information collection for three years.

Abstract: Established within the NSF by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public. The Early Career Doctorates Survey (ECDS) will become part of an integrated survey system that meets the human resources statistics part of this mission.

The Early Career Doctorates Project was established to gather in-depth information about early career doctorates (ECD), including postdoctoral researchers (postdocs). Early career doctorates are critical to the success of the U.S. scientific enterprise and will influence U.S. and global scientific markets for years to come. Despite their importance, current surveys of this population are limited, and extant workforce studies are insufficient for covering all doctorates who contribute to the U.S. economy. The NSF's Survey of Earned Doctorates and the Survey of Doctorate Recipients are limited to individuals who received research doctorates from U.S. academic institutions, thereby excluding individuals who earned professional doctorates and those who earned doctorates from institutions outside the United States but are currently employed in the United States. The NSF's Survey of Graduate Students and Postdoctorates in Science and Engineering (GSS) provides aggregate level data for all postdocs and nonfaculty researchers regardless of where they earned the degree. However, the GSS is limited to science, engineering, and selected health (SEH) fields in U.S. academic institutions and their related research facilities and is collected at the program rather than the individual level.

Through its multi-year Postdoc Data Project, NCSES determined the need for and the feasibility of gathering information about postdocs working in the United States. However, efforts to reliably identify and gather information about postdocs proved difficult due to substantial variation in how institutions characterize postdoc appointments. As a result, NCSES expanded the target population to include all individuals who earned their first doctorate within the past 10-years. Expanding the population to doctoral degree holders ensures a larger, more consistent and reliable target population. Unique in scope, the key goals of the ECD Project are:

• To broaden the scope and depth of national statistics on the ECD population both U.S. degreed and non-U.S. degreed, across employment sectors and fields of discipline

• To collect nationally representative data from ECD that can be used by funding agencies, policy makers, and other researchers to better understand the labor market and work experiences of recent doctorate recipients

• To gather the diverse definitions for ECD to allow for analysis within and across employment sectors

The current focus of the ECD Project is to conduct a survey of ECD working in three areas of employment: U.S. academic institutions in the GSS, Federally Funded Research and Development Centers, and the National Institutes of Health Intramural Research Programs. NCSES, under full clearance (OMB #3145-0235), has conducted a pilot survey with data collection period spanning July 2014 to March 2015. The Pilot ECDS data was released in January 2017.

Beginning in August 2017, NSF will request lists of ECD from approximately 350 institutions nationwide, and sample 22,855 individuals from these lists. Sample members will be invited to participate in a 32-minute web-based questionnaire. The survey topics cover: educational achievement, professional activities, employer demographics, professional and personal life balance, mentoring, training and research opportunities, and career paths and plans. Participation in the survey is voluntary.

The survey will be collected in conformance with the Privacy Act of 1974, the Confidential Information Protection and Statistical Efficiency Act (CIPSEA) of 2002, and the Federal Cybersecurity Enhancement Act of 2015. The NSF will ensure that all individually identifiable information collected will be kept strictly confidential and will be used for research or statistical purposes.

Use of the Information: The NSF will publish statistics from the survey in several reports, including the National Science Board's Science and Engineering Indicators and NCSES's Women, Minorities, and Persons with Disabilities in Science and Engineering. These reports will be made available electronically on the NSF Web site. Restricted-use and public use data files will also be developed, and will be made available to interested researchers from government, professional associations, and other organizations. Restricted-use data may be obtained under a license agreement.

Expected Respondents: There are five groups who contribute to the estimated total burden hours of the 2017 ECDS data collection. Three groups assist in the development of an accurate list of ECD: I nstitutional high authority (HA), communication coordinator (CC), and list coordinator (LC). The fourth and fifth groups consist of the individual early career doctorates (ECD) and ineligible respondents. At the first stage of sampling, the 2017 ECDS will select approximately 350 institutions. At each institution, a high authority (HA) will authorize the institution's participation in the study, designate a list coordinator (LC) and a communication coordinator (CC), and provide a letter of support for the survey. The primary responsibility of the LC is to prepare a list of ECD working at the institution. The LC will provide a list of all ECD, that is, individuals working at their institution who earned their first doctorate or doctorate-equivalent degree within the past 10 years, including postdocs, non-faculty researchers, tenured or tenure-track faculty members. The primary responsibility of the CC is to coordinate all ECDS-related institutional communications. In the second stage, the 2017 ECDS will select a sample of up to 22,855 ECD to participate in the survey with the goal of attaining 18,000 eligible ECD respondents. The HA, with the help of the CC, will notify the sampled individuals of their selection and NSF will survey these individuals.

Estimate of Burden: In the 2017 ECDS, taking into account all five respondent types (HA, CC, LC, ECD, and ineligible respondents), we estimate the total respondent burden to be 12,641 hours. We estimate a total burden of 157 hours for HAs, 470 hours for CCs, 2,400 hours for list coordinators, 9,600 hours for ECD, and 14 hours for ineligible respondents. These estimates use the burden information collected during the Pilot ECDS and assume that 300 institutions will participate (approximately 86%) during stage 1 of the 2017 ECDS data collection, 240 of the participating institutions (80%) will send pre-notification emails to potential respondents in stage 2 of data collection, and that the 22,855 sample size will result in 18,000 eligible responding ECD and 410 ineligible respondents. The amount of time for eligible responding ECD to complete the 2017 ECDS questionnaire may vary depending on an individual's circumstances; however, NCSES estimate it will take approximately 32 minutes. The below table shows the estimated burden by stage and respondent type.

Estimated Burden by Stage and Respondent Type: 2017 ECDS
Respondent type | Sample members | Minutes per respondent | Estimated total burden hours
Stage 1: Frame Creation:
High Authority (HA) | 350 | 20 | 117
Communication Coordinator (CC) | 350 | 60 | 350
List Coordinator (LC) | 300 | 480 | 2,400
Subtotal |  |  | 2,867
Stage 2: Individual Survey
High Authority (HA) Communication | 240 | 10 | 40
Coordinator (CC) | 240 | 30 | 120
Early Career Doctorate (ECD) | 18,000 | 32 | 9,600
Ineligible Respondents | 410 | 2 | 14
Subtotal |  |  | 9,774
Total |  |  | 12,641

Updates: Relative to the first notice, there are three substantive changes: (1) The first notice included the statement that “NSF will request lists of ECD from approximately 390 institutions nationwide, and sample 24,000 individuals from these lists” was based on the initial sample design plan. Based on additional analysis, the final sample sizes decreased to a sample of approximately 350 institutions and 22,855 individuals. (2) The first notice also stated “Sample members will be invited to participate in a 40-minute web-based questionnaire.” Since the first notice, NCSES further revised the Pilot ECDS questionnaire to reduce the time needed to complete the survey to 32 minutes. (3) NCSES reduced the estimated burden to 12,641 hours from the 19,900 hours provided in the first notice. This reduction in the estimated burden was a result of the smaller sample sizes, a reduction in the time to complete the survey, and a change in the expected response rate.

NSF may not conduct or sponsor a collection of information unless the collection of information displays a currently valid OMB control number and the agency informs potential persons who are to respond to the collection of information that such persons are not required to respond to the collection of information unless it displays a currently valid OMB control number.

Dated: July 17, 2017.
Suzanne H. Plimpton,
Reports Clearance Officer.

[FR Doc. 2017-15326 Filed 7-20-17; 8:45 am]

BILLING CODE 7555-01-P